DEPARTMENT OF HOMELAND SECURITY

Coast Guard

33 CFR Part 117

[Docket No. USCG-2020-0658]

RIN 1625-AA09

Drawbridge Operation Regulation; Indian Creek, Miami Beach, FL

AGENCY: Coast Guard, DHS.

ACTION: Notice of reopening comment period.

SUMMARY: The Coast Guard is reopening the comment period to solicit additional comments concerning its Notice of Proposed Rulemaking to change the drawbridge regulation governing the 63rd Street Bridge, across Indian Creek, mile 4.0, at Miami Beach, Florida. The Coast Guard received a request from the City of Miami Beach, Florida to reopen the comment period. This request was made to allow the City of Miami Beach and members of the public to comment as they were unaware of the initial notice and comment period.

DATES: Comments and related material must reach the Coast Guard on or before July 26, 2021.

ADDRESSES: You may submit comments identified by docket number USCG-2020-0658 using Federal eRulemaking Portal at https://www.regulations.gov.

See the “Public Participation and Request for Comments” portion of the SUPPLEMENTARY INFORMATION section below for instructions on submitting comments.

FOR FURTHER INFORMATION CONTACT: If you have questions on this notice, call or email Mr. Omar Beceiro, U.S. Coast Guard Sector Miami Waterways Management; telephone 305-535-4317, email Omar.Beceiro@uscg.mil.

SUPPLEMENTARY INFORMATION:

I. Background and Purpose

On April 12, 2021, we published a notice of proposed rulemaking (NPRM) entitled, “Drawbridge Operation Regulation; Indian Creek, Miami Beach, FL” in the Federal Register (86 FR 18927). The original comment period closed on May 27, 2021. The NPRM proposed the initial change to the regulation governing the 63rd Street Bridge across Indian Creek, mile 4.0, at Miami Beach, Florida and contains useful background and analysis related to the initial proposed change. The public is encouraged to review the NPRM.

The City of Miami Beach requested the Coast Guard consider reopening the comment period as the proposed regulation change impacts their residents and they misunderstood the regulatory process. Reopening the comment period will allow the City of Miami Beach to provide notification of the action to their residents. This action allows for a broader range of waterway and roadway users the comment on the proposed rule.

This notice reopening the comment period ensures notice and opportunity to comment before making the proposed changes final.

This notice is issued under authority of 33 U.S.C. 1223 and 5 U.S.C. 552.

II. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at https://www.regulations.gov. If your material cannot be submitted using https://www.regulations.gov, contact the person in the FOR FURTHER INFORMATION CONTACT section of this document for alternate instructions.

We accept anonymous comments. All comments received will be posted without change to https://www.regulations.gov and will include any personal information you have provided. For more about privacy and submissions in response to this document, see DHS's eRulemaking System of Records notice (85 FR 14226, March 11, 2020).

Documents mentioned in the NPRM as being available in this docket and all public comments, will be in our online docket at https://www.regulations.gov and can be viewed by following that website's instructions. Additionally, if you go to the online docket and sign up for email alerts, you will be notified of any posting or updates to the docket.

Dated: June 15, 2021.
Randall D. Overton,
Director, Bridge Administration, Seventh Coast Guard District.

[FR Doc. 2021-13405 Filed 6-23-21; 8:45 am]

BILLING CODE 9110-04-P